DEPARTMENT OF EDUCATION

Office of Postsecondary Education; Developing Hispanic-Serving Institutions (HSI) Program

ACTION: Notice reopening application deadline for certain applicants.

SUMMARY: The Secretary reopens for a limited purpose the deadline date for grant applications under the HSI Program Fiscal Year 2003 grant competition. The original deadline date was published in the Federal Register on January 29, 2003 (68 FR 4454). Some applicants submitted incorrect enrollment data on the Hispanic-Serving Institutions Assurance Form in their applications. As a result, the reported data indicated that Hispanic students comprised less than 25 percent of applicants' enrollment of undergraduate full-time equivalent students, less than 50 percent of the applicants' Hispanic students were low-income individuals, or both. We are reopening the deadline date to allow these applicants to resubmit their Hispanic-Serving Institutions Assurance Form with corrected enrollment data. This revised data should reflect the date that each applicant submitted its original application, not current data. In addition, each applicant must submit documentation to support any revised enrollment data. The documentation should be concise and easily verifiable. Application Deadline: December 29, 2003.

Transmittal of Applications: The resubmitted Hispanic-Serving Institutions Assurance Form and supporting documentation must be sent by hardcopy to: Mr. Carlos Reeder, U.S. Department of Education, 1990 K Street, NW., 6th Floor, Washington, DC 20006-8513. Your submittals must be postmarked no later than December 19, 2003.

FOR FURTHER INFORMATION CONTACT: Ms. Darlene B. Collins, U.S. Department of Education, 1990 K Street, NW., 6th Floor, Washington, DC 20006-8513. Telephone: (202) 502-7576 or via Internet: darlene.collins@ed.gov.

If you use a telecommunications device for the deaf (TDD), you may call the Federal Information Relay Service (FIRS) at 1-800-877-8339.

Individuals with disabilities may obtain this document in an alternative format (e.g., Braille, large print, audiotape, or computer diskette) on request to the program contact person listed under FOR FURTHER INFORMATION CONTACT.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll-free, at 1-888-293-6498; or in the Washington, DC area at (202) 512-1530.

Note: The official version of this document is the document published in the Federal Register. Free Internet access to the official edition of the Federal Register and the Code of Federal Regulations is available on GPO Access at: http://www.gpoaccess.gov/nara/index.html.

Dated: December 10, 2003.
Sally L. Stroup,
Assistant Secretary, Office of Postsecondary Education.

[FR Doc. 03-31009 Filed 12-15-03; 8:45 am]

BILLING CODE 4000-01-P